SMALL BUSINESS ADMINISTRATION

[Disaster Declaration # 20434 and # 20435; MINNESOTA Disaster Number MN-20003]

Presidential Declaration Amendment of a Major Disaster for Public Assistance Only for the State of Minnesota

AGENCY: Small Business Administration.

ACTION: Amendment 2.

SUMMARY: This is an amendment of the Presidential declaration of a major disaster for Public Assistance Only for the State of Minnesota (FEMA—4797-DR), dated 06/28/2024.

Incident: Severe Storms and Flooding.

Incident Period: 06/16/2024 through 07/04/2024.

DATES: Issued on 08/21/2024.

Physical Loan Application Deadline Date: 08/27/2024.

Economic Injury (EIDL) Loan Application Deadline Date: 03/28/2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for Private Non-Profit organizations in the State of Minnesota, dated 06/28/2024, is hereby amended to include the following areas as adversely affected by the disaster.

Primary Counties:

Brown, Itasca, Martin, McLeod, Mower, Nicollet, Redwood, Renville.

All other information in the original declaration remains unchanged.

(Catalog of Federal Domestic Assistance Number 59008)

Francisco Sánchez, Jr.,
Associate Administrator, Office of Disaster Recovery & Resilience.

[FR Doc. 2024-19336 Filed 8-27-24; 8:45 am]

BILLING CODE 8026-09-P